DEPARTMENT OF THE INTERIOR

National Park Service

[NPS-WASO-NAGPRA-2109; PPWOCRADN0-PCU00RP14.R50000]

Notice of Intent To Repatriate Cultural Items: Catalina Island Museum, Avalon, CA

AGENCY: National Park Service, Interior.

ACTION: Notice.

SUMMARY: The Catalina Island Museum, in consultation with the appropriate Indian tribes or Native Hawaiian organizations, has determined that the cultural items listed in this notice meet the definition of sacred objects. Lineal descendants or representatives of any Indian tribe or Native Hawaiian organization not identified in this notice that wish to claim these cultural items should submit a written request to the Catalina Island Museum. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Catalina Island Museum at the address in this notice by July 8, 2016.

ADDRESSES: Michael DeMarsche, Ph.D., Catalina Island Museum, 1 Casino Way, Casino Building, P.O. Box 366, Avalon, CA 90704, telephone (310) 510-2416, email director@catalinamuseum.org.

SUPPLEMENTARY INFORMATION: Notice is here given in accordance with the Native American Graves Protection and Repatriation Act (NAGPRA), 25 U.S.C. 3005, of the intent to repatriate cultural items under the control of the Catalina Island Museum, Avalon, CA, that meet the definition of sacred objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

In 1996, Justin Farmer donated a cultural item (identified as 96.018) to the Catalina Island Museum as part of a set of baskets with no contextual information. Requests for information were sent out to tribes based on preliminary assessments of potential affiliation. Based on consultation with the Santa Rosa Indian Community of the Santa Rosa Rancheria, California, and Table Mountain Rancheria of California, the basket was determined to be part of living ceremonial traditions. Based on designs and shape it was identified as a traditional Yokuts Rattlesnake basket used in their Spring Ceremony. In addition twinned baskets such as catalog number 96.018 are identified as “Tulare bottleneck” or “treasure” baskets. The basket meets the NAGPRA definition of a sacred object, and is needed by current religious practitioners for the Rattlesnake ceremony and the Spring ceremony.

In 1961, an unknown person donated one cultural item (identified as 61.46.16) to the Catalina Island Museum with no contextual information. Based on consultation with the Santa Rosa Indian Community of the Santa Rosa Rancheria, California, and Table Mountain Rancheria of California, the basket displays designs known as the Goose design (La-La). These designs signify that it is a cooking basket used for the Spring Ceremony. The basket meets the NAGPRA definition of a sacred object and is needed by current religious practitioners for the Spring Ceremony.

The Yokuts language belongs to the Penutian language family and is divided by anthropologists into three distinct groups: The Southern Valley Yokuts, located in the southern end of the San Joaquin Valley from the lower Kings River to the Tehachapi Mountains; the Foothill Yokuts occupying the western slopes of the Sierra Nevada Mountains from Fresno River to the Kern River; and the Northern Valley Yokuts extended “from near where the San Joaquin River makes a big bend northward to a line midway between the Calaveras and Mekelumne Rivers.” Based on consultation with Santa Rosa Indian Community of the Santa Rosa Rancheria, California, and Table Mountain Rancheria of California, catalog number 96.018 and 61.46.16 are sacred items, as defined by NAGPRA.

Determinations Made by the Catalina Island Museum

Officials of the Catalina Island Museum have determined that:

• Pursuant to 25 U.S.C. 3001(3)(C), the 2 cultural items described above are specific ceremonial objects needed by traditional Native American religious leaders for the practice of traditional Native American religions by their present-day adherents.

• Pursuant to 25 U.S.C. 3001(2), there is a relationship of shared group identity that can be reasonably traced between the sacred objects and Picayune Rancheria of the Chukchansi Indians of California; Santa Rosa Indian Community of the Santa Rosa Rancheria, California; Table Mountain Rancheria of California; and the Tule River Indian Tribe of the Tule River Reservation, California.

Additional Requestors and Disposition

Lineal descendants or representatives of any Indian tribe or Native Hawaiian organization not identified in this notice that wish to claim these cultural items should submit a written request with information in support of the claim to Michael DeMarsche, Ph.D., Catalina Island Museum, 1 Casino Way, Casino Building, P.O. Box 366, Avalon, CA 90704, telephone (310) 510-2416, email director@catalinamuseum.org, by July 8, 2016. After that date, if no additional claimants have come forward, transfer of control of the sacred objects to the Picayune Rancheria of the Chukchansi Indians of California; Santa Rosa Indian Community of the Santa Rosa Rancheria, California; the Table Mountain Rancheria of California; and the Tule River Indian Tribe of the Tule River Reservation, California will occur.

The Catalina Island Museum is responsible for notifying the Picayune Rancheria of the Chukchansi Indians of California; Santa Rosa Indian Community of the Santa Rosa Rancheria, California; Table Mountain Rancheria of California; and the Tule River Indian Tribe of the Tule River Reservation, California, that this notice has been published.

Dated: May 16, 2016.
Melanie O'Brien,
Manager, National NAGPRA Program.

[FR Doc. 2016-13589 Filed 6-7-16; 8:45 am]

BILLING CODE 4312-50-P